DEPARTMENT OF DEFENSE

[DOD-2006-OS-0162]

Defense Intelligence Agency

Privacy Act of 1974; System of Records

AGENCY: Defense Intelligence Agency, DoD.

ACTION: Notice to alter a system of records.

SUMMARY: The Defense Intelligence Agency proposes to alter a system of records notice in its inventory of records systems subject to the Privacy Act of 1974, (5 U.S.C. 552a), as amended.

DATES: This proposed action will be effective without further notice on August 23, 2006 unless comments are received which result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The proposed system report, as required by 5 U.S.C. 552a(r) of the Privacy Act of 1974, as amended, was submitted on July 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 17, 2006.
C.R. Choate,
Alternate Federal Register Liaison Officer, Department of Defense.

LDIA 0660

System name:

Security Files (February 22, 1993, 58 FR 10613).

Changes:

* * * * *

System Location:

Delete zip code and replace with: “20304-5100”.

Categories of Individuals Covered by the System:

Delete entry and replace with: “Military/civilian applicants and nominees to DIA; contractors; current and former DIA and Defense Attache System personnel; and other DoD affiliated personnel under the security cognizance of DIA.”

* * * * *

Authority for Maintenance of the system:

Delete entry and replace with: “5 U.S.C. 301, Departmental Regulation; DoD 5200.2.R, Personnel Security Program; DCI Directive 6-4, Personnel Security Standards and Procedures for access to Special Compartmented Information; DIA Manual 50-8, Personnel Security Program; DIA Manual 50-14, Security Investigations; and EO 9397 (SSN).”

* * * * *

Routine uses of Records maintained in the system, including categories of users and the purposes of such uses:

In the second paragraph, delete “a legitimate use” and replace with “an official need.”

Storage:

Delete entry and replace with: “Automated in computer, manual in paper files, or on microfilm/CD.”

Retrievability:

Delete entry and replace with: “Alphabetically by surname of individual or by Social Security Number or by File Number.”

Safeguards

Delete entry and replace with: “Records are maintained in a building protected by security guards and are stored in vaults, safes or locked cabinets and are accessible only to authorized personnel who are properly screened, cleared and trained in the protection of privacy information. Electronic records are maintained on a classified and password protected system.”

Retention and Disposal:

Delete entry and replace with: “Records of civilian and military applicants not hired by or assigned to DIA and favorable files of employees departing DIA maintained up to six months and then destroyed. Out-processing interviews will be retained for 5 years and then destroyed. Indoctrination/debriefing memoranda and non-disclosure agreements pertaining to access to Secret Compartmentalized Information are retained for 70 years or until notification of the death of the signer, whichever is sooner. Files containing information which may conceivably result in litigation and non-Secret Compartmentalized Information security agreements are destroyed when no longer required or retired.”

System Manager(s) and Address:

Delete entry and replace with: “Counterintelligence and Security Activity, ATTN: DAC, Defense Intelligence Agency, Washington DC 20340-5100”.

Notification Procedure:

Delete entry and replace with “Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number.”

Record Access Procedures:

Delete entry and replace with: “Individuals seeking access to information about themselves contained in this system should address written inquiries to the Freedom of Information Act Office (DAN-1A/FOIA), Defense Intelligence Agency, 200 MacDill Blvd., Washington, DC 20340-5100.

Individuals should provide their full name, current address, telephone number and “Social Security Number.”

Contesting Record Procedures:

Delete entry and replace with: “DIA's rules for accessing records, for contesting contents and appealing initial agency determinations are published in DIA Regulation 12-12 “Defense Intelligence Agency Privacy Program”; 32 CFR part 319—Defense Intelligence Agency Privacy Program; or may be obtained from the system manager.”.

* * * * *

LDIA 0660

System name:

Security Files.

System location:

Defense Intelligence Agency, Washington, DC 20304-5100.

Categories of individuals covered by the system:

Military/civilian applicants and nominees to DIA; contractors; current and former DIA and Defense Attache System personnel; and other DoD affiliated personnel under the security cognizance of DIA.

Categories of records in the system:

Records associated with personnel security functions, nomination notices, statement of personal history, indoctrination/debriefing memoranda, secrecy and nondisclosure agreements, certificates of clearance, adjudication memoranda and supporting documentation and in-house investigations, security violations, identification badge records, retrieval indices, clearance status records, and access control records and Social Security Number.

Authority for maintenance of the system:

5 U.S.C. 301, Departmental Regulation; DoD 5200.2.R., Personnel Security Program; DCI Directive 6-4, Personnel Security Standards and Procedures for access to Special Compartmented Information; DIA Manual 50-8, Personnel Security Program; DIA Manual 50-14, Security Investigations; and EO 9397 (SSN).

Purpose(s):

Information is collected in order to accomplish those administrative and personnel security functions relating to initial and continued assignment/employment and eligibility for access to classified information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to other Federal agencies, state and local governments, as may have an official need for such information and agree to apply appropriate safeguards to protect the data in a manner consistent with the conditions or expectations under which the information was provided, collected or obtained.

The ‘Blanket Routine Uses’ set forth at the beginning of the DIA's complication of systems of records notices apply to this system.

Policies and practices for storing, retrieving, accessing, retaining, and disposing of records in the system:

Storage:

Automated in computer, manual in paper files, or on microfilm/CD.

Retrievability:

Alphabetically by surname of individual or by Social Security Number or by File Number.

Safeguards:

Records are maintained in a building protected by security guards and are stored in vaults, safes or locked cabinets and are accessible only to authorized personnel who are properly screened, cleared and trained in the protection of privacy information. Electronic records are maintained on a classified and password protected system.

Retention and disposal:

Records of civilian and military applicants not hired by or assigned to DIA and favorable files of employees departing DIA maintained up to six months and then destroyed. Out-processing interviews will be retained for 5 years and then destroyed. Indoctrination/debriefing memoranda and non-dislosure agreements pertaining to access to Secret Compartmentalized Information are retained for 70 years or until notification of the death of the signer, whichever is sooner. Files containing information which may conceivably result in litigation and non-Secret Compartmentalized Information security agreements are destroyed when no longer required or retired.

System manager(s) and address:

Counterintelligence and Security Activity, ATTN: DAC, Defense Intelligence Agency, Washington, DC 20340-5100.

Notification procedure:

Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number.

Record access procedure:

Individuals seeking access to information about themselves contained in this system should address written inquiries to the Freedom of Information Act Office (DAN-1A/FOIA), Defense Intelligence Agency, 200 MacDill Blvd., Washington, DC 20340-5100.

Individual should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

The individual, other Federal agencies, firms contracted to the DoD and Agency officials.

Exemptions claimed for the system:

Portions of this system of records may be exempt from the provisions of 5 U.S.C. 552a(k)(2) and (k)(5), as applicable. An exemption rule for this record system has been promulgated in accordance with the requirements of 5 U.S.C. 553(b)(1), (2), and (3), (c) and (e) and published in 32 CFR part 319. For more information contact the system manager.

[FR Doc. 06-6418 Filed 7-21-06; 8:45 am]

BILLING CODE 5001-06-M